DEPARTMENT OF DEFENSE

Department of the Army, Corps of Engineers

Inland Waterways Users Board Meeting Notice

AGENCY: Department of the Army, U.S. Army Corps of Engineers, DoD.

ACTION: Notice; correction.

SUMMARY: Due to circumstances beyond the control of the Designated Federal Officer and the Department of Defense, the Inland Waterways Users Board was unable to provide public notification changing the meeting location of its meeting of November 3, 2017, which was previously announced in the Federal Register on September 29, 2017 (82 FR 45583). Accordingly, the Advisory Committee Management Officer for the Department of Defense, waives the 15-calendar day notification requirement.

The notice of an open meeting scheduled for November 3, 2017 published in the Federal Register on September 29, 2017 (82 FR 45583) has a new meeting location. It will now be held at the U.S. Army Corps of Engineers Vicksburg District Office Building, main Multi-purpose Conference Room, 4155 East Clay Street, Vicksburg, MS 39183.

FOR FURTHER INFORMATION CONTACT: Mr. Mark R. Pointon, the Designated Federal Officer (DFO) for the committee, in writing at the Institute for Water Resources, U.S. Army Corps of Engineers, ATTN: CEIWR-GM, 7701 Telegraph Road, Casey Building, Alexandria, VA 22315-3868; by telephone at 703-428-6438; and by email at Mark.Pointon@usace.army.mil. Alternatively, contact Mr. Kenneth E. Lichtman, the Alternate Designated Federal Officer (ADFO), in writing at the Institute for Water Resources, U.S. Army Corps of Engineers, ATTN: CEIWR-GW, 7701 Telegraph Road, Casey Building, Alexandria, VA 22315-3868; by telephone at 703-428-8083; and by email at Kenneth.E.Lichtman@usace.army.mil.

SUPPLEMENTARY INFORMATION:

Brenda S. Bowen,
Army Federal Register Liaison Officer.

[FR Doc. 2017-23633 Filed 10-30-17; 8:45 am]

BILLING CODE 3720-58-P